DEPARTMENT OF THE INTERIOR

Bureau of Ocean Energy Management

30 CFR Part 585

[Docket No. BOEM-2023-0005]

RIN 1010-AE04

Renewable Energy Modernization Rule; Correction

AGENCY: Bureau of Ocean Energy Management (BOEM), Interior.

ACTION: Proposed rule; correction.

SUMMARY: This document makes a technical correction in the preamble to a proposed rule entitled, Renewables Energy Modernization Rule, which the Department of the Interior published in the Federal Register on January 30, 2023. This correction clarifies that the proposed rule's FDMS Docket Number is BOEM-2023-0005.

DATES: February 6, 2023.

FOR FURTHER INFORMATION CONTACT: Georgeann Smale, Renewable Energy Modernization Rule Lead, Office of Regulations, BOEM, at telephone number 703-544-9246 or email address Georgeann.Smale@boem.gov; or Karen Thundiyil, Chief, Office of Regulations, BOEM, at telephone number 202-742-0970, or email address Karen.Thundiyil@boem.gov.

SUPPLEMENTARY INFORMATION:

Correction

In proposed rule FR Doc. 2023-00668, beginning on page 5968 in the Federal Register issue of January 30, 2023, the following corrections are made:

1. On page 5968, in the first and second columns, in the ADDRESSES section, the text “BOEM-2022-0019” is corrected to read “BOEM-2023-0005”.

2. On page 5968, in the second column, in the ADDRESSES section, the text “BOEM-2020-0033” is corrected to read “BOEM-2023-0005”.

3. On page 5969, in the second column, in footnote 2, the text “https://www.regulations.gov/docket?D=BOEM-2020-0033” is corrected to read “https://www.regulations.gov/docket?D=BOEM-2023-0005.”

4. On page 5971, in the first column, in paragraph (a) of section 5, the text “BOEM-2020-0033” is corrected to read “BOEM-2023-0005”.

5. On page 6014, in the third column, in footnote 95, the text “https://www.regulations.gov/docket?D=BOEM-2020-0033” is corrected to read “https://www.regulations.gov/docket?D=BOEM-2023-0005.”

6. On page 6018, in the first column, in footnote 102, the text “https://www.regulations.gov/docket?D=BOEM-2020-0033” is corrected to read “https://www.regulations.gov/docket?D=BOEM-2023-0005.”

7. On page 6019, in the first column, in footnote 108, the text “https://www.regulations.gov/docket?D=BOEM-2020-0033” is corrected to read “https://www.regulations.gov/docket?D=BOEM-2023-0005.”

Elizabeth Klein,
Director, Bureau of Ocean Energy Management.

[FR Doc. 2023-02398 Filed 2-3-23; 8:45 am]

BILLING CODE 4340-98-P